DEPARTMENT OF COMMERCE

International Trade Administration

[A-588-810]

Mechanical Transfer Presses From Japan: Final Results of Antidumping Duty Administrative Review and Revocation, in-Part

AGENCY: Import Administration, International Trade Administration, Department of Commerce.

SUMMARY: On March 7, 2002, the Department of Commerce (the Department) published the preliminary results of its administrative review of the antidumping duty order on mechanical transfer presses (MTPs) from Japan. See Mechanical Transfer Presses from Japan: Preliminary Results of Antidumping Duty Administrative Review and Intent to Revoke, in-Part, 67 FR 10363 (March 7, 2002) (Preliminary Results). This review was initiated in response to a request by respondents, Komatsu, Ltd. (Komatsu) and Hitachi Zosen Corp. (HZC) and its subsidiary Hitachi Zosen Fukui Corporation, doing business as H&F Corporation (H&F). This review covers shipments of this merchandise to the United States during the period of February 1, 2000 through January 31, 2001.

In the Preliminary Results, we found that U.S. sales were not made below normal value (NV) by any of the respondents. We also published our intent to revoke the order, in part, with respect to Komatsu. We gave interested parties an opportunity to comment on our preliminary results. HZC and H&F filed a letter regarding the preliminary results, alleging errors, but stated that they did not wish to challenge the preliminary results. The Department received no other comments and no requests for a hearing. Accordingly, we are affirming the preliminary results in these final results, and will instruct the U.S. Customs Service to liquidate entries for all respondents during the period of review, without regard to antidumping duties, and to terminate the suspension of liquidation for Komatsu, for any merchandise entered, or withdrawn from warehouse, for consumption on or after February 1, 2001.

EFFECTIVE DATE: May 22, 2002.

FOR FURTHER INFORMATION CONTACT: Mark Hoadley, Office of Antidumping/Countervailing Duty Enforcement VII, Import Administration, International Trade Administration, U.S. Department of Commerce, 14th Street and Constitution Avenue, NW., Washington, DC 20230; telephone (202) 482-3148.

Applicable Statute

Unless otherwise indicated, all citations to the statute are references to the Tariff Act of 1930 (the Act), as amended. In addition, unless otherwise indicated, all citations to the Department's regulations are to the regulations codified at 19 CFR part 351 (2001). The Department has conducted this administrative review in accordance with section 751 of the Act.

Scope of Review

Imports covered by this review include MTPs currently classifiable under Harmonized Tariff Schedule of the United States (HTSUS) item numbers 8462.99.8035, 8462.21.8085, and 8466.94.5040. The HTSUS subheadings are provided for convenience and Customs purposes only. The written description of the scope of this order is dispositive. The term “mechanical transfer presses” refers to automatic metal-forming machine tools with multiple die stations in which the work piece is moved from station to station by a transfer mechanism designed as an integral part of the press and synchronized with the press action, whether imported as machines or parts suitable for use solely or principally with these machines. These presses may be imported assembled or unassembled. This review does not cover certain parts and accessories, which were determined to be outside the scope of the order. (See “Final Scope Ruling on Spare and Replacement Parts,” U.S. Department of Commerce, March 20, 1992; and “Final Scope Ruling on the Antidumping Duty Order on Mechanical Transfer Presses (MTPs) from Japan: Request by Komatsu, Ltd.,” U.S. Department of Commerce, October 3, 1996.)

Revocation Determination

In its timely submission of February 28, 2001, Komatsu requested, pursuant to 19 CFR 351.222(e)(1), partial revocation of the order with respect to its sales of MTPs. Komatsu certified that (1) it sold the subject merchandise in commercial quantities at not less than NV for a period of at least three consecutive years; (2) in the future, it will not sell the subject merchandise at less than NV; and, (3) it agreed to immediate reinstatement under the order if the Department determines that, subsequent to revocation, it has sold the subject merchandise at less than NV.

Based upon our findings in this review and the final results of the two preceding reviews, Komatsu has demonstrated three consecutive years of sales at not less than normal value. Furthermore, we have determined that Komatsu's aggregate sales to the United States have been made in commercial quantities during these three segments of this proceeding. See Preliminary Results. The company also agreed in writing that it will not sell the subject merchandise at less than NV in the future and to the immediate reinstatement of the antidumping order, as long as any exporter or producer is subject to the order, if the Department concludes that, subsequent to the partial revocation, Komatsu has sold the subject merchandise at less than normal value. Based on the above facts, the Department determines that partial revocation of the order with respect to Komatsu is warranted. Therefore, in accordance with 19 CFR 351.222(f)(3), we will terminate the suspension of liquidation for any such merchandise entered, or withdrawn from warehouse, for consumption on or after February 1, 2001.

Comments From Interested Parties and Changes Since the Preliminary Results

The Department received a letter from HZC and H&F alleging errors in the preliminary results. More specifically, HZC and H&F alleged that there were methodological errors in the Department's preliminary antidumping margin calculation for H&F. However, according to HZC and H&F, because the correction of these errors would not have altered H&F's zero dumping margin, they did not wish to challenge the preliminary results. The Department has checked these alleged errors and found that, even if we were to agree with HZC's and H&F's allegations, the results of the review would not change. Therefore, we determine that the merits of their arguments need not be addressed.

Final Results of Review

The Department has not altered its determination from the Preliminary Results. We determine that the following weighted-average margins exist for the period February 1, 2000 through January 31, 2001:

Manufacturer/exporter | Time period | Margin (percent)
Komatsu, Ltd. | 02/01/00—01/31/01 | 0.00
Hitachi Zosen Corp./Hitachi Zosen Fukui Corp.¹ | 02/01/00—01/31/01 | 0.00
¹The Department determined to treat HZC and H&F as a single entity under section 351.401(f) of the regulations. See Preliminary Results, 67 FR at 10364.

Because the weighted-average dumping margin is zero for all respondents, we will instruct the U.S. Customs Service (Customs) to liquidate entries made during this review period without regard to antidumping duties. Because we have revoked the order with respect to Komatsu, we will order Customs to terminate the suspension of liquidation for Komatsu, for any merchandise entered, or withdrawn from warehouse, for consumption on or after February 1, 2001, and to refund all cash deposits collected.

Cash Deposit Requirements

The following deposit requirements will be effective upon publication of this notice of final results of administrative review for all shipments of MTPs from Japan entered, or withdrawn from warehouse, for consumption on or after the date of publication, as provided by section 751(a)(2)(C) of the Act: (1) The cash deposit rate for the reviewed companies will be the rate shown above (except for Komatsu); (2) for previously reviewed or investigated companies not listed above, the cash deposit rate will continue to be the company-specific rate established for the most recent period; (3) if the exporter is not a firm covered in this review, a prior review, or the original less-than-fair-value (LTFV) investigation, but the manufacturer is, the cash deposit rate will be the rate established for the most recent period for the manufacturer of the merchandise; and, (4) for all other producers and/or exporters of this merchandise, the cash deposit rate shall be the rate established in the LTFV investigation, which is 14.51 percent. See Notice of Final Determination of Sales at Less Than Fair Value and Antidumping Duty Order: Mechanical Transfer Presses from Japan, 55 FR 5642 (February 16, 1990). These deposit rates shall remain in effect until publication of the final results of the next administrative review.

Notification of Interested Parties

This notice also serves as a final reminder to importers of their responsibility under section 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the disposition of proprietary information disclosed under APO as explained in the administrative order itself. Timely written notification of the return/destruction of APO materials or conversion to judicial protective order is hereby requested. Failure to comply with the regulations and terms of an APO is a sanctionable violation.

These final results of the administrative review and this revocation, in-part, are issued and published in accordance with sections 751(a)(1), 751(d)(1), and 777(i)(1) of the Act (19 USC 1675(a)(1), 1675(d)(1), and 19 USC 1677f(i)(1)).

Dated: May 15, 2002.
Faryar Shirzad,
Assistant Secretary for Import Administration.

[FR Doc. 02-12862 Filed 5-21-02; 8:45 am]

BILLING CODE 3510-DS-P